NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by November 27, 2017. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas requiring special protection. The regulations establish such a permit system to designate Antarctic Specially Protected Areas.

Application Details

1. Applicant—Permit Application: 2018-023

Cory Wolff, National Center for Atmospheric Research, P.O. Box 3000, Boulder, CO 80307-3000.

Activity for Which Permit Is Requested

Waste Management. The applicant is seeking a permit for waste management activities associated with an atmospheric research study over the Southern Ocean. The applicant proposes to release up to 30 expendable weather reconnaissance devices, dropsondes, from a Gulfstream V research aircraft while flying between 60 and 65 degrees south. Each dropsonde consists of a 12-inch long, 2-inch diameter resin tube containing a lead-free circuit board, plastic components, and small lithium batteries with a small parachute attached.

Location

Southern Ocean, south of Hobart, Tasmania.

Dates of Permitted Activities

January 15-February 26, 2018.

Nadene G. Kennedy,
Polar Coordination Specialist, Office of Polar Programs.

[FR Doc. 2017-23362 Filed 10-26-17; 8:45 am]

BILLING CODE 7555-01-P